DEPARTMENT OF HEALTH AND HUMAN SERVICES

Substance Abuse and Mental Health Services Administration

Agency Information Collection Activities Under Emergency Review by the Office of Management and Budget

The Substance Abuse and Mental Health Services Administration (SAMHSA) has submitted the following request (see below) for emergency OMB review under the Paperwork Reduction Act (44 U.S.C. Chapter 35). OMB approval has been requested by February 28, 2005. A copy of the information collection plans may be obtained by calling the SAMHSA Reports Clearance Officer on (240) 276-1243.

Title: Core Measures for the Center for Substance Abuse Prevention.

OMB Number: 0930-0230.

Frequency: Semi-annually.

Affected public: Non-Profit Institutions.

Proposed Project: Core Measures for the Center for Substance Abuse Prevention—Reinstatement Without Change

The mission of SAMHSA's Center for Substance Abuse Prevention (CSAP) is to decrease substance use and abuse and related problems among the American public by bridging the gap between research and practice. CSAP accomplishes this through field-testing scientifically defensible programs; disseminating comprehensive, culturally appropriate prevention strategies, policies, and systems; and capacity building for states and community-based providers. Data are collected from CSAP grants and contracts where participant outcomes are assessed pre- and post-intervention. The analysis of these data help determine whether progress is being made in achieving CSAP's mission. The primary purpose of the proposed data activity is to promote the use among CSAP grantees and contractors of measures recommended by CSAP as a result of extensive examination and recommendations, using consistent criteria, by panels of experts. The use of consistent measurement for specified constructs across CSAP funded projects will improve CSAP's Performance and Results Act (GPRA) and address goals and objectives outlined in the Office of National Drug Control Policy's Performance Measures of Effectiveness. It is important to emphasize that CSAP is not requiring the use of these measures if (1) The program does not already plan to target change in the specified construct(s) and/or (2) the measure is not valid for the program's targeted population. The Core Measures are only to be used if appropriate to the program's target population and consistent with the outcome(s) selected by the program. Consequently, no additional burden on the target population is estimated because the program is not being asked to collect data above and beyond what would already have been planned.

The annual burden estimated is that for the grantees to extract the necessary data from their files and provide it to CSAP's data coordinating center. The table below summarizes the maximum estimated time, i.e., if all programs used all of the Core Measures—which is unlikely.

The following table is the estimated hour burden:

Estimates of Annualized Hour Burden
[FY05]
CSAP program | Number of grantees | Responses/grantee | Hours/ response | Total hours
Knowledge Development:
Club drugs methamphetamine | 22 | 2 | 3 | 132
Fetal alcohol | 6 | 2 | 3 | 36
Workplace | 13 | 2 | 3 | 78
Targeted Capacity Enhancement:
HIV/Targeted Capacity | 45 | 2 | 3 | 270
SPF Sig | 21 | 2 | 3 | 126
FY 05 Total | 106 |  |  | 642

An emergency 6 month approval is being requested because SAMHSA needs this data collection to continue. There are no substantive changes. The agency will seek a regular clearance within six months.

Written comments and recommendations concerning the proposed information collection should be sent within 5 days of this notice to: John Kraemer, Human Resources and Housing Branch, Office of Management and Budget, New Executive Office Building, Room 10235, Washington, DC 20503; due to potential delays in OMB's receipt and processing of mail sent through the U.S. Postal Service, respondents are encouraged to submit comments by fax to: 202-395-6974.

Dated: February 14, 2005.
Anna Marsh,
Executive Officer, SAMHSA.

[FR Doc. 05-3136 Filed 2-17-05; 8:45 am]

BILLING CODE 4162-20-P